DEPARTMENT OF HOMELAND SECURITY

Transportation Security Administration

Extension of Agency Information Collection Activity Under OMB Review; Airport Security

AGENCY: Transportation Security Administration, DHS.

ACTION: 30-Day notice.

SUMMARY: This notice announces that the Transportation Security Administration (TSA) has forwarded the Information Collection Request (ICR), Office of Management and Budget (OMB) control number 1652-0002, abstracted below to OMB for review and approval of an extension of the currently approved collection under the Paperwork Reduction Act (PRA). The ICR describes the nature of the information collection and its expected burden. The collection includes requirements for airport operators to submit certain information to TSA, as well as to maintain and update records to ensure compliance with security provisions set forth in agency rules.

DATES: Send your comments by August 13, 2021. A comment to OMB is most effective if OMB receives it within 30 days of publication.

ADDRESSES: Written comments and recommendations for the proposed information collection should be sent within 30 days of publication of this notice to www.reginfo.gov/public/do/PRAMain. Find this particular information collection, OMB control number 1652-0034, by selecting “Currently under Review—Open for Public Comments” and by using the find function.

FOR FURTHER INFORMATION CONTACT: Christina A. Walsh, TSA PRA Officer, Information Technology (IT), TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on December 23, 2020, 85 FR 83986.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Airport Security Part 1542.

Type of Request: Extension of a currently approved collection.

OMB Control Number: 1652-0002.

Forms(s): NA.

Affected Public: Airport operators.

Abstract: The information collection is used to determine compliance with 49 CFR part 1542 and to ensure passenger safety and security by ensuring compliance with airport operator required security procedures. The following information collections and other recordkeeping requirements with which respondent covered airport operators must comply fall under this OMB control number: (1) Development of an Airport Security Program (ASP), submission to TSA, and implementation; (2) as applicable, development of airport operator requested or TSA-required ASP amendments and temporary changed conditions, submission to TSA, and implementation; (3) collection of data necessary to complete a criminal history records check (CHRC) for those individuals with unescorted access authority to a Security Identification Display Area (SIDA) or Sterile Area; (4) submission to TSA of identifying information about individuals to whom the airport operator has issued identification media, such as name, address, and country of birth, in order for TSA to conduct a Security Threat Assessment (STA); and (5) information collection and recordkeeping requirements associated with airport operator compliance with regulations and Security Directives.

Number of Respondents: 438.

Estimated Annual Burden Hours: An estimated 1,903,841 hours annually.¹

¹ The annual burden has been updated since the publication of the 60-day notice, which reported 1,893,351.

Dated: July 8, 2021.
Christina A. Walsh,
TSA Paperwork Reduction Act Officer, Information Technology.

[FR Doc. 2021-14898 Filed 7-13-21; 8:45 am]

BILLING CODE 9110-05-P